DEPARTMENT OF COMMERCE

National Oceanic and Atmospheric Administration

RIN 0648-XA56

Marine Fisheries Advisory Committee; Public Meetings

AGENCY: National Marine Fisheries Service (NMFS), National Oceanic and Atmospheric Administration (NOAA), Commerce.

ACTION: Notice of open public meeting.

SUMMARY: Notice is hereby given of a meeting of the Marine Fisheries Advisory Committee (MAFAC). This will be the first meeting to be held in calendar year 2008 to review and advise NOAA on management policies for living marine resources. Agenda topics are provided under the SUPPLEMENTARY INFORMATION section of this notice. All full Committee sessions will be open to the public.

DATES: The meetings will be held July 1, 2008, from 9 a.m. to 4 p.m., July 2, 2008, from 9 a.m. to 4:30 p.m., and July 3, 2008, from 9 a.m. to 4:30 p.m.

ADDRESSES: The meetings will be held at the Radisson Martinique Hotel, 49 West 32nd Street, New York, NY 10001; (212) 277-2702

FOR FURTHER INFORMATION CONTACT: Mark Holliday, Director, NMFS Office of Policy; telephone: (301) 713-2239 x120.

SUPPLEMENTARY INFORMATION: As required by section 10(a)(2) of the Federal Advisory Committee Act, 5 U.S.C. App. 2, notice is hereby given of a meeting of MAFAC. MAFAC was established by the Secretary of Commerce (Secretary) on February 17, 1971, to advise the Secretary on all living marine resource matters that are the responsibility of the Department of Commerce. This committee advises and reviews the adequacy of living marine resource policies and programs to meet the needs of commercial and recreational fisheries, and environmental, State, consumer, academic, tribal, governmental and other national interests. The complete charter and summaries of former meetings are located online at http://www.nmfs.noaa.gov/ocs/mafac/index.htm.

Matters To Be Considered

The order in which these matters is considered is subject to change.

July 1, 2008

The meeting will begin with opening remarks and introductions to the full committee from Dr. Jim Balsiger, Acting Assistant Administrator for NOAA Fisheries. MAFAC administrative matters will be discussed, including findings and recommendations of the MAFAC charter working group. The afternoon is dedicated to separate Subcommittee and working group meetings, including Strategic Planning, Commerce (aquaculture, ecolabeling, and seafood safety/quality), and Recreational Fisheries Statistics improvements.

July 2, 2008

Updates will be presented on Aquaculture, Magnuson-Stevens Act Reauthorization, and International Fisheries, and legislative updates. Other topics to be discussed are the Vision 2020 Working Group; a Strategic Planning Subcommittee report on the present draft of a MAFAC Transition Paper; NOS/NMFS interactions; and National Monuments, Sanctuaries, and Marine Protected Areas.

July 3, 2008

The full Committee will reconvene from 9 a.m. to 4 p.m. to discuss findings and recommendations on Seafood Safety and Quality; receive a briefing on climate change impacts and NOAA Climate Service; and discuss findings and recommendations on Ecolabeling and Seafood Certification. The meeting will conclude with a review of action items and next steps, and the time and place of the Fall meeting.

Special Accommodations

These meetings are physically accessible to people with disabilities. Requests for sign language interpretation or other auxiliary aids should be directed to Mark Holliday, Director, NMFS Office of Policy; telephone: (301) 713-2239 x120 by 5 p.m., June 15, 2008.

Dated: June 5, 2008.
James W. Balsiger
Acting Assistant Administrator for Fisheries, National Marine Fisheries Service.

[FR Doc. E8-13012 Filed 6-9-08; 8:45 am]

BILLING CODE 3510-22-S